DEPARTMENT OF HEALTH AND HUMAN SERVICES

Administration for Children and Families

Submission for Office of Management and Budget Review; U.S. Repatriation Program Forms (Office of Management and Budget No.: 0970-0474)

AGENCY: Office of Human Services Emergency Preparedness and Response, Administration for Children and Families, United States Department of Health and Human Services.

ACTION: Request for public comments.

SUMMARY: The Administration for Children and Families (ACF) is proposing to collect information to support state planning, training, and exercise activities and training and technical assistance for the United States (U.S.) Repatriation Program through six new forms in addition to the currently approved forms.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The purpose of the U.S. Repatriation Program (Program) is to provide temporary assistance to eligible U.S. citizens and their dependents (repatriates) returned by the Department of State from a foreign country because of destitution, illness, war, threat of war, or a similar crisis, and who are without available resources, or (2) mental illness. Temporary assistance is provided upon their arrival in the U.S. and is available initially for up to 90 days from a repatriate's date of arrival in the U.S. Temporary assistance is provided in the form of a service loan and is repayable to the U.S. Government.

Temporary assistance is defined in 42 U.S.C. 1313(c) as money payments, medical care, temporary lodging, transportation, and other goods and services necessary for the health or welfare of individuals, including guidance, counseling, and other welfare services provided to them within the U.S. upon their arrival in the U.S. Other goods and services may include clothes, food, assistance with obtaining identification (driver's license, birth certificate), child care, and translation services.

The ACF Office of Human Services Emergency Preparedness and Response (OHSEPR), at the U.S. Department of Health and Human Services (HHS), administers the U.S. Repatriation Program.

There are currently eight forms approved under this this OMB number. This new request will extend approval of those forms without changes. For more information about these currently approved forms, see https://www.reginfo.gov/public/do/PRAViewICR?ref_nbr=202204-0970-004.

Most recently, OHSEPR developed new forms to support the planning, training, and exercise cooperative agreements with states and the new training and technical assistance center. This notice and the associated request to OMB will add these forms under this OMB number.

The following is a description of the forms and the proposed revisions:

Project Narrative

The purpose of this form is for an overall description of planned activities for the entire project period (e.g., years 1, 2, and 3) regarding emergency repatriation planning, training, and exercises.

Annual Workplan

The purpose of this form is for an annual workplan for each federal fiscal year for emergency repatriation planning, training, and exercises.

Budget and Budget Narrative

This form is to provide a budget and budget narrative for planned activities for each annual workplan regarding planning, training, and exercises for repatriation.

Repatriation State Contact List

The purpose is to ensure current and accurate points-of-contact within states and territories for the U.S. Repatriation Program routine and emergency operations.

Repatriation Training and Technical Assistance Request

States, territories, counties, and local service providers may use this form to request training and technical assistance on the U.S. Repatriation Program via a web portal account.

Post-Training Survey

The purpose of this survey is to receive feedback on trainings to improve the support for and customer experience of states, territories, and local service providers supporting the U.S. Repatriation Program.

Respondents: States, Territories, local social service providers, administrative staff.

Annual Burden Estimates:

Currently Approved Forms
Instrument | Annual number of respondents | Annual number of responses per respondent | Average burden hours per response | Annual burden hours
Emergency Repatriation Eligibility Application | 1,000 | 1 | .5 | 500
Emergency Repatriation Reimbursement Request | 10 | 1 | .3 | 3
Loan Waiver and Deferral Application | 100 | 1 | .5 | 50
Routine Repatriation Reimbursement Request | 25 | 10 | .3 | 75
Repatriation Repayment and Privacy Agreement | 800 | 1 | .17 | 136
Refusal of Temporary Assistance | 300 | 1 | .05 | 15
Temporary Assistance Extension Request | 25 | 1 | .3 | 8
Emergency Repatriation Request for Cost Approval and Federal Support | 5 | 10 | .3 | 15
Total Annual Burden Hours |  |  |  | 802

Proposed New Forms
Instrument | Annual number of respondents | Annual number of responses per respondent | Average burden hours per response | Annual burden hours
Project Narrative | 55 | 1 | .5 | 28
Annual Workplan | 55 | 1 | 1 | 55
Budget and Budget Narrative | 55 | 1 | 1 | 55
Repatriation State Contact List | 220 | 2 | .25 | 110
Repatriation Training and Technical Assistance Request | 500 | 2 | .25 | 250
Post-Training Survey | 1000 | 1 | .17 | 170
Total Annual Burden Hours |  |  |  | 668

Estimated Total Annual Burden Hours: 1,470.

Authority: 42 U.S.C. 1313, 24 U.S.C. 321-329.

Mary B. Jones,
ACF/OPRE Certifying Officer.

[FR Doc. 2023-25682 Filed 11-20-23; 8:45 am]

BILLING CODE 4184-PL-P